DEPARTMENT OF THE INTERIOR

National Park Service

[Docket No. NPS-2025-0037; NPS-WASO-VRP-NPS0040843; 255-PPWOIEADA0-PPMVSIE1Y.Y00000]

Improving Visitor Services in National Parks

AGENCY: National Park Service, Interior.

ACTION: Request for information (RFI). SUMMARY: The National Park Service (NPS) seeks comments and information to identify improvements that could be made to visitor services in parks, including more efficient ways to deliver and manage those services. This RFI is part of the U.S. Department of the Interior's implementation of Executive Order (E.O.) 14314, which directs the Secretary of the Interior to take steps to improve services for U.S. residents visiting national parks.

DATES: Written comments and information are requested on or before October 9, 2025.

ADDRESSES: Interested persons should submit ideas for improving visitor services in parks via the Federal eRulemaking Portal: https://www.regulations.gov. Follow the instructions for submitting comments to NPS-2025-0037, which is the docket established for this RFI. While responses to this RFI do not bind the NPS to any further actions related to the responses, all comments received will be posted without change to https://www.regulations.gov, including any personal information provided.

Electronic Access and Filing

This document and all comments received may be viewed online through the Federal eRulemaking portal at https://www.regulations.gov using the docket number listed above. Electronic retrieval help and guidelines are also available at https://www.regulations.gov. An electronic copy of this document may also be downloaded from the Office of the Federal Register website at https://www.federalregister.gov and the U.S. Government Publishing Office's website at https://www.GovInfo.gov. All comments received before the close of business on the comment closing date indicated above will be considered and will be available for examination in the docket at the above address. Comments received after the comment closing date will be filed in the docket and will be considered to the extent practicable.

FOR FURTHER INFORMATION CONTACT: Jason Gibson, Acting Associate Director for Interpretation, Education, and Volunteers at 202-513-7247.

SUPPLEMENTARY INFORMATION: The National Park System is made up of 433 sites (often referred to as parks) that are administered by the NPS, including national parks, national historical parks, national monuments, national lakeshores, national preserves, national recreation areas, and national seashores.¹ In 2024, these parks received more than 331 million recreation visits, the largest number of visits in NPS history.² The NPS provides and manages an array of visitor services that enhance the experience of visitors to parks by promoting enjoyment, access, health, learning, and stewardship.

¹ For a complete list of System units visit https://www.nps.gov/aboutus/national-park-system.htm.

² See https://www.nps.gov/aboutus/visitation-numbers.htm.

The NPS provides educational, experiential, and interpretive programs and content that lead to greater protection, appreciation, and enjoyment of parks, such as ranger-guided tours, skill-building opportunities, and information displays. The NPS designs, builds, and maintains visitor facilities, infrastructure, and other physical resources such as visitor centers, bathrooms, campgrounds, picnic areas, signage, docks, trails, and roads, and provides services such as garbage removal and water distribution. These services keep visitors safe and healthy, create opportunities for access and recreation, and are essential for visitor satisfaction. The NPS supports the efficient management and delivery of commercial visitor services by partners that provide accommodations, services, and facilities, such as lodging, food, retail, marinas, transportation, equipment rentals, and guided recreational activities.

Visitor services provided by the NPS and its partners are central to the NPS mission because these services promote meaningful experiences for park visitors through greater understanding, access, and enjoyment of America's natural, cultural, historical, and recreational treasures. Visitor services have a great influence on the quality of the experiences that visitors have in parks. Ensuring that those services are provided and managed effectively and efficiently is a priority for the NPS and the Trump administration.

Request for Information

On July 3, 2025, the President signed E.O. 14314, “Making America Beautiful Again by Improving Our National Parks.” E.O. 14314 announced the administration's policy to preserve opportunities for American families to make unforgettable memories at national parks, such as Grand Canyon National Park and Great Smoky Mountains National Park. In furtherance of this policy, section 2(c) of E.O. 14314 directed the Secretary of the Interior to take steps to improve services for U.S. residents visiting national parks. This RFI helps implement that direction by requesting information from the American public about how the NPS can better serve the millions of visitors that come to parks each year.

For purposes of this RFI, the term “visitor services” means any service provided by the NPS or its partners to visitors in parks, including, but not limited to, the services described above. Pursuant to the directive in E.O. 14314 to improve visitor services, the NPS is using this RFI to seek input from the public about how NPS can improve visitor services in parks, including how the NPS can more efficiently provide or manage such services in order to enhance the visitor experience. This includes how the NPS can provide access to visitor services in parks in a way that allows visitors to have meaningful and enjoyable experiences given increasing visitation to more popular parks and features.

The NPS expects the American public will have useful information and perspectives to share about the value that visitor services provide, including how they can be improved or otherwise changed, whether some services are unnecessary and should be eliminated, and ideas about expanding or developing new services. The NPS requests that commenters provide, to the extent possible, first-hand accounts of visitor services that were provided by the NPS or its partners that support specific suggestions for improvement or change. This will help the NPS evaluate suggestions made by the American public for their benefit.

(Authority: 54 U.S.C. 100101; E.O. 14314.)

Jason Gibson,
Acting Associate Director for Interpretation, Education, and Volunteers.

[FR Doc. 2025-17293 Filed 9-8-25; 8:45 am]

BILLING CODE 4312-52-P